DEPARTMENT OF TRANSPORTATION

Federal Aviation Administration

[Summary Notice No. 2018-25]

Petition for Exemption; Summary of Petition Received; Southern Utah University

AGENCY: Federal Aviation Administration (FAA), Department of Transportation (DOT).

ACTION: Notice; correction.

SUMMARY: The FAA published a document in the Federal Register on March 29, 2018, concerning the request for comments on the general curriculum requirements provided for in 14 Code of Federal Regulations. The document contained the incorrect Summary Notice Number.

FOR FURTHER INFORMATION CONTACT: Brenda Robeson (202) 267-4712

Correction

In the Federal Register of March 29, 2018, in FR Notice Doc 2018-06333, on page 13582, in the heading of the notice in the center column, correct the Docket ID Summary Number to read as follows:

“Docket Id Summary Notice No. 2018-25”

Issued in Washington, DC, on April 2, 2018.
Lirio Liu,
Executive Director, Office of Rulemaking.

[FR Doc. 2018-07169 Filed 4-6-18; 8:45 am]

BILLING CODE 4910-13-P